ENVIRONMENTAL PROTECTION AGENCY

[FRL OP-OFA-149]

Environmental Impact Statements; Notice of Availability

Responsible Agency: Office of Federal Activities, General Information 202-564-5632 or https://www.epa.gov/nepa.

Weekly receipt of Environmental Impact Statements (EIS)

Filed October 11, 2024 10 a.m. EST Through October 21, 2024 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20240189, Draft, USAF, AZ, 492nd Special Operations Wing Beddown, Comment Period Ends: 12/09/2024, Contact: Nick Post 210-925-3516.

EIS No. 20240190, Draft, MDA, GU, Enhanced Integrated Air and Missile Defense System on Guam, Comment Period Ends: 01/08/2025, Contact: Mark Wright 571-231-8212.

EIS No. 20240191, Final, BOEM, NY, New York Bight Final Programmatic Environmental Impact Statement, Review Period Ends: 11/25/2024, Contact: Jill Lewandowski 703-787-1703.

Dated: October 21, 2024.
Nancy Abrams,
Associate Director, Office of Federal Activities.

[FR Doc. 2024-24858 Filed 10-24-24; 8:45 am]

BILLING CODE 6560-50-P